INTERNATIONAL TRADE COMMISSION

[Investigation Nos. 701-TA-249 and 731-TA-262, 263, and 265 (Third Review)]

Iron Construction Castings From Brazil, Canada, and China; Determinations

On the basis of the record ¹ developed in the subject five-year reviews, the United States International Trade Commission (Commission) determines, pursuant to section 751(c) of the Tariff Act of 1930 (19 U.S.C. 1675(c)) (the Act), that revocation of the countervailing duty order on heavy iron construction castings from Brazil, the antidumping duty order on heavy iron construction castings from Canada, and the antidumping duty orders on iron construction castings (both heavy and light) from Brazil and China would be likely to lead to continuation or recurrence of material injury to industries in the United States within a reasonably foreseeable time.

¹ The record is defined in sec. 207.2(f) of the Commission's Rules of Practice and Procedure (19 CFR 207.2(f)).

Background

The Commission instituted these reviews on May 3, 2010 (75 FR 23295) and determined on August 6, 2010 to conduct expedited reviews of the countervailing duty and antidumping duty orders (75 FR 49945).

The Commission transmitted its determinations in these reviews to the Secretary of Commerce on October 27, 2010. The views of the Commission are contained in USITC Publication 4191 (October 2010), entitled Iron Construction Castings from Brazil, Canada, and China: Investigation Nos. 701-TA-249 and 731-TA-262, 263, and 265 (Third Review).

Issued: October 27, 2010.
By order of the Commission.
Marilyn R. Abbott,
Secretary to the Commission.

[FR Doc. 2010-27612 Filed 11-1-10; 8:45 am]

BILLING CODE 7020-02-P